DEPARTMENT OF JUSTICE

Office of Justice Programs

[OMB Number 1121-NEW]

Agency Information Collection Activities: Proposed Collection; Comments Requested

ACTION: 30-Day Notice of Information Collection Under Review: New Information Collection, OJJDP National Training and Technical Assistance Center (NTTAC), Needs Assessment of the Juvenile Justice Field Package.

The Department of Justice, Office of Justice Programs will be submitting the following information collection request to the Office of Management and Budget (OMB) for review and approval in accordance with the Paperwork Reduction Act of 1995. The proposed information collection was previously published in the Federal Register Volume 74, Number 46, page 10616 on March 11, 2009, allowing for a 60-day comment period.

The purpose of this notice is to allow for an additional 30 days for public comment until June 18, 2009. This process is conducted in accordance with 5 CFR 1320.10.

Written comments and/or suggestions regarding the items contained in this notice, especially the estimated public burden and associated response time, should be directed to the Office of Management and Budget, Office of Information and Regulatory Affairs, Attention Department of Justice Desk Officers, Washington, DC 20503. Additional comments may be submitted to OMB via facsimile to (202) 395-5806. Written comments and suggestions from the public and affected agencies concerning the proposed collection of information are encouraged. Your comments should address one or more of the following four points:

(1) Evaluate whether the proposed collection of information is necessary for the proper performance of the functions of the agency/component, including whether the information will have practical utility;

(2) Evaluate the accuracy of the agencies/components estimate of the burden of the proposed collection of information, including the validity of the methodology and assumptions used;

(3) Enhance the quality, utility, and clarity of the information to be collected; and

(4) Minimize the burden of the collection of information on those who are to respond, including the use of appropriate automated, electronic, mechanical, or other technological collection techniques or other forms of information technology, e.g., permitting electronic submission of responses.

Overview of this information collection:

(1) Type of Information Collection: New Information Collection.

(2) The Title of the Form/Collection: OJJDP NTTAC Needs Assessment of the Juvenile Justice Field.

(3) The Agency form number, if any, and the applicable component of the Department of Justice sponsoring the collection: Office of Juvenile Justice and Delinquency Prevention, Office of Justice Programs, Department of Justice.

(4) Affected public who will be asked or required to respond, as well as a brief abstract. Primary: State, Local or Tribal. Other: Federal Government; Individuals or households; Not-for-profit institutions; Businesses or other for-profit. Abstract: The Office of Juvenile Justice and Delinquency Prevention's National Training and Technical Assistance Center (NTTAC) Needs Assessment is designed to assess the current training and technical assistance needs of professionals working in the juvenile justice field. The needs assessment will capture information regarding the topics of interest to the field, the level of need for information about the topic, the types of training and technical assistance of interest around a topic, and the specific challenges that the field is facing in their work. The needs assessment utilizes an on-line format and incorporated skip patterns to ensure that each completion is tailored to the needs of the respondent and reduces the burden of time to complete the instrument. The information will be used to improve services and plan for future training and technical assistance efforts in a fiscally responsible manner that can provide the greatest benefit and impact.

(5) An estimate of the total number of respondents and the amount of time estimated for an average respondent to respond/reply: It is expected that invitations for completion will be sent to approximately 6,000 respondents with a 60% response rate. This would indicate approximately 3,600 respondents who will require an average of 20 minutes to complete the needs assessment.

(6) An estimate of the total public burden (in hours) associated with the collection: The total annual public burden hours for this information collection is estimated to be 1200 hours.

If additional information is required contact: Lynn Bryant, Department Clearance Officer, United States Department of Justice, Planning and Policy Staff, Justice Management Division, 601 D Street, NW., Suite 1600, Washington, DC 20530.

Dated: May 13, 2009.
Lynn Bryant,
Department Clearance Officer, PRA, United States Department of Justice.

[FR Doc. E9-11575 Filed 5-18-09; 8:45 am]

BILLING CODE 4410-18-P